DEPARTMENT OF VETERANS AFFAIRS

[OMB Control No. 2900-NEW]

Agency Information Collection Activity Under OMB Review: Evaluation of Patient and Provider Satisfaction With Mental Health-Clinical Pharmacy Specialists in Outpatient Mental Health Clinics at the Madison VA

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before August 22, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-NEW” in any correspondence.

FOR FURTHER INFORMATION CONTACT: Cynthia Harvey-Pryor, Office of Quality, Privacy and Risk (OQPR), Department of Veterans Affairs, 810 Vermont Avenue NW, Washington, DC 20420, (202) 461-5870 or email cynthia.harvey-pryor@va.gov. Please refer to “OMB Control No. 2900-NEW” in any correspondence.

SUPPLEMENTARY INFORMATION:

Authority: 38 U.S.C., Part I, Chapter 5, Section 527.

Title: Evaluation of Patient and Provider Satisfaction with Mental Health-Clinical Pharmacy Specialists in Outpatient Mental Health Clinics at the Madison VA.

OMB Control Number: 2900-NEW.

Type of Review: New collection.

Abstract: The information collected in this survey will be utilized by the Mental Health Clinical Pharmacy Specialists (MH-CPS) in the Madison VA Mental Health Clinic to assess patient satisfaction with care provided by MH-CPS. Results will be used to identify areas for improvement.

An agency may not conduct or sponsor, and a person is not required to respond to a collection of information unless it displays a currently valid OMB control number. The Federal Register Notice with a 60-day comment period soliciting comments on this collection of information was published at 83 FR 4561 on January 31, 2018, pages 4561 and 4562.

Affected Public: Individuals and households.

Estimated Annual Burden:

Patient Satisfaction with Mental Health-Clinical Pharmacy Specialists at the Madison VA—8 hours.

Provider Satisfaction with Mental Health-Clinical Pharmacy Specialists at the Madison VA—2 hours.

Estimated Average Burden Per Respondent:

Patient Satisfaction with Mental Health-Clinical Pharmacy Specialists at the Madison VA—5 minutes.

Provider Satisfaction with Mental Health-Clinical Pharmacy Specialists at the Madison VA—5 minutes.

Frequency of Response: Annually.

Estimated Number of Respondents:

Patient Satisfaction with Mental Health-Clinical Pharmacy Specialists at the Madison VA—100.

Provider Satisfaction with Mental Health-Clinical Pharmacy Specialists at the Madison VA—20.

By direction of the Secretary.
Cynthia D. Harvey-Pryor,
Department Clearance Officer, Office of Quality, Privacy and Risk, Department of Veterans Affairs.

[FR Doc. 2018-15639 Filed 7-20-18; 8:45 am]

BILLING CODE 8320-01-P